DEPARTMENT OF TRANSPORTATION

Federal Aviation Administration

Delegation of Authority

AGENCY: Federal Aviation Administration (FAA), DOT.

ACTION: Notice delegation of authority.

SUMMARY: The FAA is giving notice of a specific delegation of authority from the FAA Administrator to the Associate Chief Counsel/Director, Office of Dispute Resolution for Acquisition (hereinafter the “ODRA Director”), in all contests involving Agency actions associated with the FAA's adaptation of Office of Management and Budget (“OMB”) Circular A-76. The delegation was set forth in a memorandum signed by the Administrator dated March 10, 2004. The FAA is publishing the text of the delegation, so that it is available to interested parties.

FOR FURTHER INFORMATION CONTACT: Marie A. Collins, Staff Attorney and Dispute Resolution Officer for the Office of Dispute Resolution for Acquisition (AGC-70), Federal Aviation Administration, 800 Independence Street, SW., Room 323, Washington, DC 20591; telephone (202) 267-3290; facsimile (202) 267-3720.

SUPPLEMENTARY INFORMATION: Under the Department of Transportation and Related Agencies Appropriations Act of 1996, Pub. L. No. 104-50, 109 Stat. 436 (1995) (“Appropriations Act”), Congress directed the FAA to develop an acquisition system that addresses the mission and unique needs of the Agency and at a minimum, provides for more timely and cost-effective acquisition of equipment and materials. In the Appropriations Act, Congress expressly directed the FAA to create the new acquisition system without reference to existing procurement statutes and regulations. The result was the development of the FAA's Acquisition Management System (AMS) and the establishment of the Office of Dispute Resolution for Acquisition (ODRA). Under the AMS, the FAA follows the policies of the OMB Circular A-76, (Revised) Performance of Commercial Activities to the extent that such policies are consistent with FAA's statutory mandate. In accordance with OMB Circular A-76, the subject delegation implements the FAA's policy that directly interested parties may contest certain actions taken in connection with FAA competition, pursuant to contest procedures administered by the ODRA. Rules governing contests are published in the ODRA Web site at http://www.faa.gov/agc/odra/index.htm.

The full text of the March 10, 2004 delegation from the Administrator to the ODRA Director provides as follows:

Under 49 U.S.C. 106(f)(2), 49 U.S.C. 46101, et seq., Pub. L. No. 104-50, Pub. L. No. 108-176, and Pub. L. No. 108-199, I delegate to the Associate Chief Counsel/Director, Office of Dispute Resolution for Acquisition (“ODRA”) authority in all contests involving Agency actions associated with the FAA's adaptation of Office of Management and Budget (“OMB”) Circular A-76, as follows:

a. To administer individual contests and to appoint ODRA Dispute Resolution Officers and Special Masters to administer all or portions of such contests;

b. To conduct contest proceedings and to prepare findings and recommendations for the Administrator or the Administrator's delegee, who will issue final decisions in such contests.

c. To deny motions for dismissal or summary relief which have been submitted to the ODRA by parties to contests;

d. To grant or deny motions for partial dismissal or partial summary relief submitted to the ODRA by parties to contests, or to order such partial dismissals on its own initiative;

e. To dismiss contests, based on voluntary withdrawals by the parties which have instituted such proceedings;

f. To dismiss contests, where the parties to such proceedings have achieved a settlement;

g. To issue procedural rules and interlocutory orders aimed at proper and efficient case management, including, without limitation, scheduling orders, subpoenas, sanctions orders for failure of discovery, and the like;

h. To issue protective orders aimed at prohibiting the public dissemination of certain information and materials provided to the ODRA and opposing parties during the course of contest proceedings, including, but not limited to, documents or other materials reflecting trade secrets, confidential financial information and other proprietary or competition-sensitive data, as well as confidential Agency source selection information the disclosure of which might jeopardize future Agency procurement activities;

i. To utilize consensual alternative dispute resolution (ADR) methods in accordance with established Department of Transportation and FAA policies;

j. To engage with Agency program offices and contractors in voluntary mutually agreeable ADR efforts aimed at resolving issues relating to potential contests at the earliest possible stage, even before a contest is formally filed with the ODRA;

k. To take all other reasonable steps deemed necessary and proper for the management of the FAA dispute resolution system for the resolution of contests, in accordance with the Acquisition Management System and applicable law and policy.

The Associate Chief Counsel/Director of the ODRA may redelegate the authority set forth above, in whole or in part, to an ODRA Dispute Resolution Officer or to a Special Master.

Issued in Washington, DC, on March 10, 2004.
Andrew B. Steinberg,
Chief Counsel.

[FR Doc. 04-7491 Filed 4-1-04; 8:45 am]

BILLING CODE 4910-13-M